DEPARTMENT OF EDUCATION

National Board for Education Sciences

AGENCY: Department of Education, Institute of Education Sciences.

ACTION: Notice of an open meeting.

SUMMARY: This notice sets forth the schedule and proposed agenda of an upcoming meeting of the National Board for Education Sciences. The notice also describes the functions of the Committee. Notice of this meeting is required by Section 10(a)(2) of the Federal Advisory Committee Act and is intended to notify the public of their opportunity to attend. This notice is being posted in the Federal Register less than 15 days prior to the Board's meeting due to challenges in coordinating Board member schedules to attend the meeting.

DATES: May 23 and 24, 2007.

Times: May 23, 2 p.m. to 5 p.m.; May 24, 9 a.m. to 2 p.m.

ADDRESSES: 80 F Street, NW., Room 100, Washington, DC 20208.

FOR FURTHER INFORMATION CONTACT: Mary Grace Lucier, Designated Federal Official, National Board for Education Sciences, 555 New Jersey Ave., NW., Room 602 I, Washington, DC 20208; phone: (202) 219-2253; fax: (202) 219-1466; e-mail: Mary.Grace.Lucier@ed.gov.

Individuals who use a telecommunications device for the deaf (TDD) may call the Federal Information Relay Service (FRS) at 1-800-877-8339.

SUPPLEMENTARY INFORMATION: The National Board for Education Sciences is authorized by Section 116 of the Education Sciences Reform Act of 2002. The Board advises the Director of the Institute of Education Sciences (IES) on the establishment of activities to be supported by the Institute, on the funding for applications for grants, contracts, and cooperative agreements for research after the completion of peer review, and reviews and evaluates the work of the Institute.

On May 23 the Board will receive a briefing from the Director of IES and staff on its activities and progress reports on projects underway since January 2007.

On May 24 the Board will discuss issues related to the reauthorization of the Education Sciences Reform Act and its pending contract to evaluate the effectiveness of the IES in carrying out its priorities and mission. The Board will also review the structure of its internal committees and discuss the appointment of an executive director. A final agenda will be available from Mary Grace Lucier (see contact information above) on May 16. Individuals who will need accommodations for a disability in order to attend the meeting (e.g., interpreting services, assistance listening devices, or materials in alternative format) should notify Mary Grace Lucier no later than May 16. We will attempt to meet requests for accommodations after this date but cannot guarantee their availability. The meeting site is accessible to individuals with disabilities.

Records are kept of all Committee proceedings and are available for public inspection at 555 New Jersey Ave., NW., Room 627 H, Washington, DC 20208, from the hours of 9 a.m. to 5 p.m. Eastern Standard Time Monday through Friday.

Electronic Access to This Document: You may view this document as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC area at (202) 512-1530.

Note: The official version of this document is the document published in the Federal Register. Free Internet access to the official edition of the Federal Register and the Code of Federal Regulations is available on GPO Access at: http://www.gpoaccess.gov/nara/index.html.

Grover J. Whitehurst,
Director, Institute of Education Sciences.

[FR Doc. E7-9142 Filed 5-10-07; 8:45 am]

BILLING CODE 4000-01-P